SECURITIES AND EXCHANGE COMMISSION

Submission for OMB Review; Comment Request

Upon Written Request, Copies Available From: Securities and Exchange Commission, Office of Filings and Information Services, Washington, DC 20549.

Extension: Form BDW, SEC File No. 270-17, OMB Control No. 3235-0018.

Notice is hereby given that, pursuant to the Paperwork Reduction Act of 1995 (44 U.S.C. 3501 et seq.), the Securities and Exchange Commission (“Commission”) has submitted to the Office of Management and Budget a request for extension on the collection of information discussed below. The Code of Federal Regulations citation to this collection of information is the following rule: 17 CFR 240.15b6-1.

Broker-dealers and notice-registered broker-dealers use Form BDW (17 CFR 249.501a) to withdraw from registration with the Commission, the self-regulatory organizations, and the states. It is estimated that approximately 900 fully registered broker-dealers annually will incur an average burden of 15 minutes, or 0.25 hours, to file for withdrawal on Form BDW via the internet with Web CRD, a computer system operated by the National Association of Securities Dealers, Inc. that maintains information regarding fully registered broker-dealers and their registered personnel. It is further estimated that 140 futures commission merchants that are notice-registered broker-dealers annually will incur an average burden of 15 minutes, or 0.25 hours, to file for withdrawal on Form BDW by sending the completed Form BDW to the National Futures Association, which maintains information regarding notice-registered broker-dealers on behalf of the Commission. The annualized compliance burden per year for both fully registered and notice-registered broker-dealers is 260 hours [1,040 (900 fully registered broker-dealers + 140 notice-registered broker-dealers) × .25 = 260 hours]. The annualized cost to respondents, utilizing staff at an estimated cost of $101 per hour, would be $ 26,260 (260 × $101 = $26,260). An agency may not conduct or sponsor, and a person is not required to respond to, a collection of information unless it displays a currently valid control number. Rule 15b6-1 does not have a retention of records requirement.

General comments regarding the above information should be directed to the following persons: (i) Desk Officer for the Securities and Exchange Commission, Office of Information and Regulatory Affairs, Office of Management and Budget, Room 10102, New Executive Office Building, Washington, DC 20503 or by sending an e-mail to David_Rostker@omb.eop.gov; and (ii) R. Corey Booth, Chief Information Officer, Office of Information Technology, Securities and Exchange Commission, 100 F Street, NE., Washington, DC 20549. Comments must be submitted to OMB within 30 days of this notice.

July 25, 2005.
Margaret H. McFarland,
Deputy Secretary.

[FR Doc. E5-4136 Filed 8-3-05; 8:45 am]

BILLING CODE 8010-01-P